DEPARTMENT OF ENERGY

Federal Energy Regulatory Commission

[Docket No. IC16-14-000]

Commission Information Collection Activities (FERC-604 & FERC-923); Comment Request

AGENCY: Federal Energy Regulatory Commission.

ACTION: Comment request.

SUMMARY: In compliance with the requirements of the Paperwork Reduction Act of 1995, the Federal Energy Regulatory Commission (Commission or FERC) is submitting its information collection [FERC-604 (Cash Management Agreements) and FERC-923 (Communication of Operational Information between Natural Gas Pipelines and Electric Transmission Operators)] to the Office of Management and Budget (OMB) for review of the information collection requirements. Any interested person may file comments directly with OMB and should address a copy of those comments to the Commission as explained below. The Commission previously issued a Notice in the Federal Register (81 FR 54574,8/16/2016) requesting public comments. The Commission received no comments on either the FERC-604 or the FERC-923 and is making this notation in its submittal to OMB.

DATES: Comments on the collection of information are due November 23, 2016.

ADDRESSES: Comments filed with OMB, identified by the OMB Control No. 1902-0267 (FERC-604) or 1902-0265 (FERC-923) should be sent via email to the Office of Information and Regulatory Affairs: oira_submission@omb.gov. Attention: Federal Energy Regulatory Commission Desk Officer. The Desk Officer may also be reached via telephone at 202-395-4718.

A copy of the comments should also be sent to the Commission, in Docket No. IC16-14-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-604, Cash Management Agreements

OMB Control No.: 1902-0267.

Abstract: Cash management or “money pool” programs typically concentrate affiliates' cash assets in joint accounts for the purpose of providing financial flexibility and lowering the cost of borrowing.

In a 2001 investigation, FERC staff found that balances in cash management programs affecting FERC-regulated entities totaled approximately $16 billion. Additionally, other investigations revealed large transfers of funds (amounting to more than $1 billion) between regulated pipeline affiliates and non-regulated parents whose financial conditions were precarious. The Commission found that these and other fund transfers and the enormous (mostly unregulated) pools of money in cash management programs could detrimentally affect regulated rates.

To protect customers and promote transparency, the Commission issued Order 634-A (2003) requiring entities to formalize in writing and file with the Commission their cash management agreements. At that time, the Commission obtained OMB clearance for this new reporting requirement under the FERC-555 information collection (OMB Control No. 1902-0098). Now, the Commission includes these reporting requirements for cash management agreements under the FERC-604 information collection (OMB Control No. 1902-0267). The Commission implemented these reporting requirements in 18 CFR parts 141.500, 260.400, and 357.5.

Type of Respondent: Public utilities, natural gas companies, and oil pipeline companies.

Estimate of Annual Burden: The Commission estimates the annual public reporting burden for the information collection as:

¹ The estimates for cost per response are derived using the following formula: Average Burden Hours per Response * $74.50 per Hour = Average Cost per Response. The Commission staff believes that the industry's level and skill set is comparable to FERC's with an average hourly cost (wages plus benefits) of $74.50.

FERC-604, Cash Management Agreements
Number of respondents | Annual number of responses per respondent | Total number of responses | Average burden & cost per response ¹ | Total annual burden hours & total annual cost | Cost per respondent ($)
(1) | (2) | (1) * (2) = (3) | (4) | (3) * (4) = (5) | (5) ÷ (1)
25 | 1 | 25 | 1.5 hrs.; $111.75 | 37.5 hrs.; $2,793.75 | $111.75

FERC-923, Communication of Operational Information Between Natural Gas Pipelines and Electric Transmission Operators

OMB Control No.: 1902-0265.

Abstract: In 2013, the Federal Energy Regulatory Commission (FERC or Commission) revised its regulations to provide explicit authority to interstate natural gas pipelines and public utilities that own, operate, or control facilities used for the transmission of electric energy in interstate commerce to voluntarily share non-public, operational information with each other for the purpose of promoting reliable service and operational planning on either the pipeline's or public utility's system. This helps ensure the reliability of natural gas pipeline and public utility transmission service by permitting transmission operators to share the information with each other that they deem necessary to promote the reliability and integrity of their systems. FERC removed actual or perceived prohibitions to the information sharing and communications between industry entities. The communications of information are not and will not be submitted to FERC. Rather, the non-public information is shared voluntarily between industry entities. FERC does not prescribe the content, medium, format, or frequency for the information sharing and communications. Those decisions are made by the industry entities, depending on their needs and the situation.

Type of Respondent: Natural gas pipelines and public utilities.

Estimate of Annual Burden: The Commission estimates the annual public reporting burden for the information collection as:

² The estimates for cost per response are derived using the following formula: Average Burden Hours per Response * $74.50 per Hour = Average Cost per Response. The Commission staff believes that the industry's level and skill set is comparable to FERC's with an average hourly cost (wages plus benefits) of $74.50.

³ The estimate for the number of respondents is based on the North American Electric Reliability Corporation (NERC) Compliance Registry as of July 29, 2016, minus the Transmission Operators within ERCOT.

FERC-923, Communication of Operational Information Between Natural Gas Pipelines and Electric Transmission Operators
| Number of respondents | Annual number of responses per respondent | Total number of responses | Average burden & cost per response ² | Total annual burden hours & total annual cost | Cost per respondent ($)
(1) | (2) | (1) * (2) = (3) | (4) | (3) * (4) = (5) | (5) ÷ (1)
Public Utility Transmission Operator, communications | ³ 164 | 12 | 1,968 | 0.5 hrs.; $37.25 | 984 hrs.; $73,308 | $447
Interstate Natural Gas Pipelines, communications | 155 | 12 | 1,860 | 0.5 hrs.; $37.25 | 930 hrs.; $69,285 | 447
Total |  | 3,828 |  | 1,914 hrs; $142,593 |

Dated: October 18, 2016.
Kimberly D. Bose,
Secretary.

[FR Doc. 2016-25622 Filed 10-21-16; 8:45 am]

BILLING CODE 6717-01-P